DEPARTMENT OF AGRICULTURE

Forest Service

Lake Tahoe Basin Management Unit, California, South Tahoe Greenway Multi-Use Trail Project

AGENCY: Forest Service, USDA.

ACTION: Notice of intent to prepare an environmental impact statement.

SUMMARY: The South Tahoe Greenway Multi-Use Trail is a California Tahoe Conservancy (Conservancy) proposed Class I or better trail that will link Meyers, California to Stateline, Nevada, generally following the former Caltrans U.S. Highway 50 Bypass Corridor. The trail will form the backbone of the bike trail network in South Lake Tahoe and line residential and lodging uses to jobs, schools, shopping, and recreation and community areas. The trail implements specific goals and policies of the Tahoe Regional Planning Agency (TRPA), the USDA Forest Service Lake Tahoe Basin Management Unit (USFS), and Conservancy to provide a non-motorized alternative transportation corridor through South Lake Tahoe. Approximately 0.5 mile of the trail corridor will cross National Forest lands in approximately six locations.

DATES: Comments concerning the scope of the analysis must be received by December 20, 2006. The Draft Environmental Impact Statement (DEIS) is expected by summer 2007 and the Final Environmental Impact Statement (FEIS) is expected by fall/winter 2007.

ADDRESSES: Send written comments to: Ray Lacey, Program Coordinator, California Tahoe Conservancy, 1061 Third Street, South Lake Tahoe, California, 96150, e-mail: rlacey@tahoecons.ca.gov.

FOR FURTHER INFORMATION CONTACT: Matt Dickinson, NEPA Coordinator, Lake Tahoe Basin Management Unit, 35 College Drive, South Lake Tahoe, CA 96150, Mattdickinson@fs.fed.us, (530) 543-2769; or Lisa O'Daly, Recreation Program Manager, Tahoe Regional Planning Agency, P.O. Box 5310, 128 Market Street, Stateline, NV 89449, lodaly@trpa.org, (775) 589-5242.

SUPPLEMENTARY INFORMATION: Purpose and need for action: Complete accessible and continuous multi-use trail from the existing Class I trail in Meyers, California to Stateline, Nevada that establishes a convenient non-auto transportation alternative and high quality recreational experience for residents and visitors. The South Shore roadway network suffers from excessive traffic congestion and the resulting degradation of air quality The South Shore also lacks continuous Class I facilities for bicycles and pedestrians that provide high quality recreational opportunities. The Tahoe Regional Planning Agency (TRPA) Regional Transportation Plan/Air Quality Plan identifies the unconstructed State Route 50 right-of-way as an opportunity for development of a portion of the bicycle and pedestrian network to reduce dependence on private autos and improve air quality.

Proposed action: The Conservancy is proposing to construct a 9.6-mile long multi-purpose trail that will provide residents and visitors with a non-motorized, alternative transportation corridor from Meyers, California (near the intersection of U.S. Highway 50 and Pioneer Trail) to Stateline, Nevada (near the proposed Van Sickle Bi-State Park). The South Tahoe Greenway Multi-Use Trail will generally follow the former Caltrans U.S. Highway 50 Bypass Corridor and will also utilize other publicly (including National Forest) and privately owned lands.

Possible alternatives: Potential alternatives include the following: (1) Use of the new El Dorado County Sawmill Trail (located west of U.S. Highway 50) from Meyers to the intersection of Meadowvale or Elks Club and U.S. Highway 50; (2) Use of the U.S. Highway 50 corridor from Pioneer Trail to near Kyburz Avenue, bending around the north side of the Lake Tahoe Airport and crossing back east toward the South Tahoe Greenway Multi-Use trail corridor through Barton Meadow and over the Upper Truckee River on private property; (3) Use of alternative trail design measures (e.g., boardwalks, bridges, porous paving materials) to reduce or eliminate effects to sensitive resources; (4) Use of Pioneer Trail right of way from the South Tahoe Greenway Multi-Use Trail's crossing location at Pioneer Trail to Ski Run Boulevard, then using Ski Run Boulevard, connecting back to the South Tahoe Greenway; (5) Use of Pioneer Trail right-of-way from Ski Run Boulevard to the trail's terminus at U.S. Highway 50; and (6) maximize use of the former U.S. Highway 50 bypass right-of-way in the Sunset Stables project area located east of the Lake Tahoe Airport by locating the trail in the eastern-most forested area of the Sunset Stables project and at a higher elevation to allow for greater flexibility during future Conservancy design of the Sunset Stables river restoration project.

Lead, Joint Lead, and Cooperating Agencies: The Conservancy is planning to construct the South Tahoe Greenway Multi-Use Trail. The Conservancy, USFS, and TRPA are preparing a joint Environmental Impact Report (EIR)/Environmental Impact Statement (EIS) to inform agency decision makers about the potential environmental effects of the project. This joint document will serve as an EIR prepared by the Conservancy (lead CEQA agency) pursuant to the California Environmental Quality Act (CEQA); an EIS prepared by the USFS (lead federal agency) pursuant to the National Environmental Policy Act (NEPA); and an EIS prepared by TRPA pursuant to its regulations.

Responsible Official and Mailing Address: For Forest Service Decision, Terri Marceron, Forest Supervisor, Lake Tahoe Basin Management Unit, 35 College Drive, South Lake Tahoe, CA 96150 is the responsible official.

Decision to Be Made: The decision to be made is whether to construct a Class I trail on approximately ½ mile of National Forest System land in conjunction with construction of a Class I trail along the U.S. Highway 50 right-of-way as described in the proposed action, to implement another combination of activities which meets the purpose and need for action, or to take no action at this time.

Scoping Process: Public scoping began with the publication of this Notice of Intent in the Federal Register. Notice of the preparation of the environmental documentation is also being published in a local newspaper (Tahoe Daily Tribune) and mailed to adjacent property owners. Public scoping opportunities with agency staff will be provided on the following dates: The City of South Lake Tahoe will provide an opportunity for public input at their Council hearing on Tuesday, November 28 beginning at 9 a.m. at the Lake Tahoe Airport, 1901 Airport Road, South Lake Tahoe, CA; and the TRPA will hold a public scoping hearing before their Hearings Officer on December 14 beginning at 2 p.m. at the TRPA offices, 128 Market Street, Stateline, NV. The Forest Service will accept comments at these public meetings.

Preliminary Issues: During preparation of the Multi-Use Trail Preliminary Concept Plans, the following issues were identified: Disturbance of stream environment zone and the Upper Truckee River floodplain from new trail construction; potential water quality degradation from runoff and erosion from new trail creation; wildlife habitat environmental effects from direct habitat removal and potential habitat degradation from increased visitation to the project area; effects to sensitive vegetation communities and loss of “old growth” trees as defined by the TRPA Code of Ordinances; effects to scenic quality along scenic highways and at the Pioneer Trail roadway crossing; conflicts (e.g., public safety and traffic flow) with vehicular circulation in neighborhood areas and at roadway intersections; consistency with public safety plans and policies, such as the Lake Tahoe Airport Comprehensive Land Use Plan; consistency with the Lake Tahoe Basin Management Unit Forest Plan; and consistency with the goals of the Conservancy Sunset Stables Restoration and Resource Management Plan Project.

Identification of Permits or Licenses Required: The TRPA, California Department of Fish and Game, U.S. Army Corps of Engineers and California Regional Water Quality Control Board, Lahontan Region may issue project specific permits for trail segments within the Lake Tahoe Region.

Comment Requested: This notice of intent initiates the scoping process that guides the development of the environmental impact statement. The Forest Service would like to know the views of interested persons, organizations, and agencies as to the scope and content of the information to be included and analyzed in the DEIS. Agencies should comment on the elements of the environmental information that are relevant to their statutory responsibilities in connection with the proposed alternatives. Comments must be received by December 20, 2006.

Person to Which Comments may be Mailed: Send written comments to: Ray Lacey, Program Coordinator, California Tahoe Conservancy, 1061 Third Street, South Lake Tahoe, California, 96150, e-mail: rlacey@tahoecons.ca.gov.

Early Notice of Importance of Public Participation in Subsequent Environmental Review: There will be additional opportunities to comment on this project in addition to this scoping period. When the DEIS is released there will be a 45 day comment period from the date the Environmental Protection Agency publishes the notice of availability of the DEIS in the Federal Register.

The Forest Service believes, at this early stage, it is important to give reviewers notice of several court rulings related to public participation in the environmental review process. First, reviewers of draft statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: November 21, 2006.
Nancy J. Gibson,
Acting Deputy Forest Supervisor, Lake Tahoe Basin Management Unit.

[FR Doc. 06-9444 Filed 11-28-06; 8:45 am]

BILLING CODE 3410-05-M